DEPARTMENT OF COMMERCE

Office of the Secretary

[DOC No: DOC-2025-0010]

Notice of Termination of 14 Discretionary Federal Advisory Committees

AGENCY: Office of the Secretary, Department of Commerce.

ACTION: Notice of termination of 14 Discretionary Federal Advisory Committees.

SUMMARY: In accordance with Executive Order 14217, Commencing the Reduction of the Federal Bureaucracy, the Secretary of the U.S. Department of Commerce has determined that the purposes for which the 14 following Discretionary Federal Advisory Committees were established have been fulfilled, and the committees have been terminated:

Bureau of Economic Analysis Advisory Committee (Bureau of Economic Analysis); Federal Economic Statistics Advisory Committee (Bureau of Economic Analysis); 2030 Census Advisory Committee (U.S. Census Bureau); Bureau of the Census Scientific Advisory Committee (U.S. Census Bureau); Census Bureau National Advisory Committee on Racial, Ethnic, and Other Populations (U.S. Census Bureau); Advisory Committee on Supply Chain Competitiveness (International Trade Administration); Civil Nuclear Trade Advisory Committee (International Trade Administration); Renewable Energy and Energy Efficiency Advisory Committee (International Trade Administration); United States Investment Advisory Council (International Trade Administration); United States Manufacturing Council (International Trade Administration); Advisory Committee on Excellence in Space (National Oceanic and Atmospheric Administration); Climate Services Advisory Committee (National Oceanic and Atmospheric Administration); Marine and Coastal Area-Based Management Advisory Committee (National Oceanic and Atmospheric Administration); and Marine Fisheries Advisory Committee (National Oceanic and Atmospheric Administration).

FOR FURTHER INFORMATION CONTACT: Maria Chang, telephone (202) 482-1190, email faca@doc.gov.

SUPPLEMENTARY INFORMATION: On February 19, 2025, the President issued Executive Order (E.O.) 14217, Commencing the Reduction of the Federal Bureaucracy. The order states that within 30 days of the date of the order, the Assistant to the President for National Security Affairs, the Assistant to the President for Economic Policy, and the Assistant to the President for Domestic Policy shall identify and submit to the President additional unnecessary governmental entities and Federal Advisory Committees that should be terminated on grounds that they are unnecessary. Consistent with the E.O., the Secretary of the Department of Commerce terminated these committees effective February 28, 2025, in accordance with the provisions of the Federal Advisory Committee Act of 1972, as amended (5 U.S.C. Ch. 10).

Dated: June 4, 2025.
Charles R. Cutshall,
Chief Privacy Officer and Director of Open Government.

[FR Doc. 2025-10398 Filed 6-9-25; 8:45 am]

BILLING CODE 3510-17-P